FEDERAL MARITIME COMMISSION

Ocean Transportation Intermediary License Revocations

The Commission gives notice that the following Ocean Transportation Intermediary licenses have been revoked pursuant to section 19 of the Shipping Act of 1984 (46 U.S.C. 40101) effective on the date shown.

License No.: 3549NF.

Name: Demetrios Air Freight Company, Inc.

Address: 215 Salem Street, Woburn, MA 01801.

Date Revoked: December 14, 2012.

Reason: Failed to maintain valid bonds.

License No.: 004191NF.

Name: Genesis Forwarding Group USA, Inc. dba Genesis Container Lines.

Address: 800 Hindry Avenue, Units B-D, Inglewood, CA 90301.

Date Revoked: December 17, 2012.

Reason: Failed to maintain valid bonds.

License No.: 8504N.

Name: Hyun Dae Trucking Co., Inc.

Address: 3022 S. Western Avenue, Los Angeles, CA 90018.

Date Revoked: December 1, 2012.

Reason: Failed to maintain a valid bond.

License No.: 12472N.

Name: Delta Express Freight Service, Inc.

Address: 550 W. Patrice Place, Suite A, Gardena, CA 90248.

Date Revoked: November 14, 2012.

Reason: Failed to maintain a valid bond.

License No.: 17642N.

Name: Direct Shipping, Corp. dba Direct Shipping Line.

Address: 1371 South Santa Fe Avenue, Compton, CA 90221.

Date Revoked: November 26, 2012.

Reason: Failed to maintain a valid bond.

License No.: 017663N.

Name: Data Cargo Co., Inc.

Address: 11801 NW 100th Road, Suite 13, Medley, FL 33178.

Date Revoked: November 14, 2012.

Reason: Failed to maintain a valid bond.

License No.: 019791N.

Name: Ruky International Company.

Address: 100 Menlo Park Drive, Suite 310, Edison, NJ 08837.

Date Revoked: December 26, 2012.

Reason: Voluntary Surrender of License.

License No.: 020201F.

Name: Genesis Forwarding Services CA, Inc. dba Genesis Container Lines.

Address: 800 Hindry Avenue, Units B-D, Inglewood, CA 90301.

Date Revoked: November 15, 2012.

Reason: Failed to maintain a valid bond.

License No.: 020202F.

Name: Genesis Freight Forwarding Services, Inc. dba Genesis Container Lines.

Address: 2700 Greens Road, Suite 300, Houston, TX 77032.

Date Revoked: November 15, 2012.

Reason: Failed to maintain a valid bond.

License No.: 020203F.

Name: Genesis Forwarding Services IL, Inc. dba Genesis Container Lines.

Address: 2601-2605 Greenleaf Avenue, Elk Grove Village, IL 60007.

Date Revoked: November 15, 2012.

Reason: Failed to maintain a valid bond.

License No.: 020204F.

Name: Genesis Forwarding Services NY, Inc. dba Genesis Container Lines.

Address: 145 Hook Creek Blvd., Bldg. B-1, Valley Stream, NY 11581.

Date Revoked: November 15, 2012.

Reason: Failed to maintain a valid bond.

License No.: 020252N.

Name: Sobe Enterprises, Inc. dba Sobe Export Services.

Address: 150 NW 176th Street, Unit C, Miami Gardens, FL 33169.

Date Revoked: November 15, 2012.

Reason: Failed to maintain a valid bond.

License No.: 020445F.

Name: Freight It, Inc.

Address: 11222 La Cienega Blvd., Suite 555, Inglewood, CA 90304.

Date Revoked: December 7, 2012.

Reason: Failed to maintain a valid bond.

License No.: 022246N.

Name: Pelham Services, Inc.

Address: 5413 NW 72nd Avenue, Miami, FL 33166.

Date Revoked: December 23, 2012.

Reason: Failed to maintain a valid bond.

License No.: 022299N.

Name: KLS Logistics Group LLC

Address: 1563 NW 82nd Avenue, Miami, FL 33126.

Date Revoked: December 1, 2012.

Reason: Failed to maintain a valid bond.

License No.: 022877NF.

Name: Twenty Two Global Transport, LP.

Address: 1110 Henderson Street, Houston, TX 77007.

Date Revoked: December 12, 2012.

Reason: Failed to maintain valid bonds.

License No.: 023045F.

Name: First America Metal Corporation.

Address: 113 Industrial Drive, Minooka, IL 60447.

Date Revoked: November 12, 2012.

Reason: Failed to maintain a valid bond.

License No.: 023500N.

Name: IMAC International Corp.

Address: 527 Albert Street, East Meadow, NY 11554.

Date Revoked: December 10, 2012.

Reason: Voluntary Surrender of License.

Vern W. Hill,
Director, Bureau of Certification and Licensing.

[FR Doc. 2013-01516 Filed 1-24-13; 8:45 am]

BILLING CODE 6730-01-P